DEPARTMENT OF THE INTERIOR

National Park Service

General Management Plan/Environmental Impact Statement, Guadalupe Mountains National Park, Texas

AGENCY: National Park Service, Department of Interior.

ACTION: Notice of Intent to prepare an environmental impact statement for a General Management Plan for Guadalupe Mountains National Park.

SUMMARY: Under the provisions of the National Environmental Policy Act of 1969, the National Park Service is preparing an environmental impact statement for the General Management Plan for Guadalupe Mountains National Park. This effort will result in a comprehensive general management plan that encompasses preservation of natural and cultural resources, visitor use and interpretation, roads, and facilities. Alternatives to be considered include no action and other alternatives, including a preferred alternative, which will be developed throughout the public scoping process. Each alternative will set forth a clearly defined direction for resource preservation and visitor use in Guadalupe Mountains National Park.

Major issues at Guadalupe Mountains National Park include (1) management and development in the gypsum dunes on the westside of the park; (2) maintenance of historic structures; (3) development and maintenance of campsites and other in-park facilities, particularly at Pine Springs; (4) relationship of the park to local governments and Native American communities; (5) reintroduction of native species extirpated from the park; and (6) management and restoration of existing habitats within the park, including McKittrick Canyon. Other issues will be identified during the public scoping process.

Comments: If you wish to comment on issues of concern associated with the general management plan and environmental impact statement, you may submit your comments by any one of several methods. You may mail comments to Mr. Ellis Richard, Superintendent, Guadalupe Mountains National Park, HC 60, Box 400, Salt Flat, TX 79847. You may also comment via the Internet to ‘gumo_superintendent@nps.gov’. Please submit Internet comments as an ASCII file avoiding the use of special characters and any form of encryption. Please also include “Attn: General Management Plan/Environmental Impact Statement, GUMO, Package 214” and your name and return address in your Internet message. If you do not receive a confirmation from the system that we have received your Internet message, contact Mr. Ellis Richard directly at (915) 828-3251. Finally, you may hand-deliver comments to Guadalupe Mountains National Park, HC 60, Salt Flat, TX 79847. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

For Further Information: Contact Mr. Ellis Richard, Superintendent, Guadalupe Mountains National Park, (915) 828-3251.

Dated: February 8, 2000.
John A. King,
Acting Director, Intermountain Region.

[FR Doc. 00-4161 Filed 2-22-00; 8:45 am]

BILLING CODE 4310-70-P